RAILROAD RETIREMENT BOARD

Privacy Act of 1974; Proposed Changes to System of Records

AGENCY: Railroad Retirement Board (RRB).

ACTION: Notice of a revision of a Privacy Act System of Records.

SUMMARY: The purpose of this document is to give notice of changes to several categories of information in RRB-42, Uncollectible Benefit Overpayment Accounts. The RRB proposes to expand the scope of the system to include employee salary overpayments. Currently the system includes only benefit payments.

DATES: The changes to this System of Records shall become effective as proposed without further notice in 40 calendar days from the date of this publication unless comments are received before this date that would result in further modifications.

ADDRESSES: Send comments to Beatrice Ezerski, Secretary to the Board, Railroad Retirement Board, 844 N. Rush St., Chicago, Illinois 60611-2092.

FOR FURTHER INFORMATION CONTACT: LeRoy Blommaert, Privacy Act Officer, Railroad Retirement Board, 844 N. Rush St., Chicago, Illinois 60611-2092, telephone number (312) 751-4548, e-mail address, blommlf@rrb.gov.

SUPPLEMENTARY INFORMATION: The RRB proposes to expand the scope of the system to include employee salary overpayments. Currently the system includes only benefit overpayments. This proposed expansion requires revision in the following categories of information: Name; categories of individuals covered by the system; categories of records in the system; authority for maintenance of the system; and purpose(s). In addition, two routine uses need to be revised. It is anticipated that less than five salary overpayment accounts will be added each year.

I. Discussion of Revised Routine Uses

Routine use “a” is being revised solely to reflect that debts arising from salary overpayments may now be disclosed to private collection agencies for the purpose of recovery of those overpayments.

Routine use “c” is being revised to add salary overpayments to benefit overpayments and to delete the reference to debts arising from benefits paid under the Regional Rail Reorganization Act of 1973. Reference to this Act is no longer valid because all debts in the system were written off as uncollectible and no new debts are possible.

II. Altered System Report

On April 21, 2004, the Railroad Retirement Board filed an altered system report for this system with the chairmen of the designated Senate and House committees and with the Office of Management and Budget. This was done to comply with section 3 of the Privacy Act of 1974 and OMB Circular A-130, Appendix I.

By Authority of the Board.
Beatrice Ezerski,
Secretary to the Board.

RRB-42

The following sections in RRB-42 are revised to read as follows:

System Name:

Overpayment Accounts.

* * * * *

Categories of individuals covered by the system:

Individuals who were overpaid in the benefits or salaries they received from the Railroad Retirement Board. Benefits are further delineated in the following two categories:

—Individuals receiving the following types of annuities, payable under the Railroad Retirement Act: railroad retirement, disability, supplemental, and survivor.

—Individuals receiving unemployment or sickness insurance benefits payable under the Railroad Unemployment Insurance Act.

Categories of records in the system:

Name, address, Social Security number, Railroad Retirement claim number, whether salary or benefit and if benefit type of benefit previously paid, amount of overpayment, debt identification number, cause of overpayment, source of overpayment, original debt amount, current balance of debt, installment repayment history, recurring accounts receivable administrative offset history, waiver, reconsideration and debt appeal status, general billing, dunning, referral, collection, and payment history, amount of interest and penalties assessed and collected, name and address of debt collection agency or Federal agency to which uncollectible account is referred for collection, date of such referral, amount collected, and name and address of consumer reporting agencies to which debt information is disclosed and date of such referral.

Authority for maintenance of the system:

Section 7(b)(6) of the Railroad Retirement Act of 1974 (45 U.S.C. 231f(b)(6)); section 12(1) of the Railroad Unemployment Insurance Act (45 U.S.C. 362(1)); Public Law 97-92, Joint Resolution; Pub. L. 97-365 (Debt Collection Act of 1982); Federal Claims Collection Act (31 U.S.C. 3701 et seq.); Pub. L. 104-134 (Debt Collection Improvement Act of 1996); 5 U.S.C. section 5514 and 20 CFR part 361.

Purpose(s):

The records in this system are created, monitored and maintained to enable the Railroad Retirement Board to fulfill regulatory and statutory fiduciary responsibilities to its trust funds, the individuals to whom it pays benefits or salaries and the Federal Government as directed under the Railroad Unemployment Insurance Act, Debt Collection Act of 1982, Federal Claims Collection Act, and Debt Collection Improvement Act of 1996. These responsibilities include: accurate and timely determination of debt; sending timely, accurate notice of debt with correct repayment and rights options; taking correct and timely action when rights/appeals have been requested; assessing appropriate charges; using all appropriate collection tools; releasing required, accurate reminder notices; and correctly and timely entering all recovery, write-off, and waiver offsets to debts.

Routine uses of records maintained in the system, including categories of users and the purposes of such uses:

Paragraph “a” is revised to read as follows:

a. Overpayment amounts, history of collectible, history of collection efforts and identification information (name, address—including IRS address information—Social Security number, Railroad Retirement Claim number), whether salary or benefit overpayment, and if benefit, type of benefit may be disclosed to private collection agencies for the purpose of recovering overpayments.

* * * * *

Paragraph c is revised to read as follows:

c. For information related to overpayments of salaries paid to RRB employees, in the event that this system of records, maintained by the Railroad Retirement Board to carry out its functions, indicates a violation or potential violation of law, whether civil, criminal or regulatory in nature, and whether arising by general statute or particular program statute, or by regulation, rule or order issued thereto, the relevant records in the system of records may be referred, as a routine use, to the appropriate agency, whether Federal, State, local or foreign, charged with the responsibility of investigating or prosecuting such violation or charged with enforcing or implementing the statute, rule, regulation or order issued pursuant thereto; for information related to overpayments paid under the Railroad Retirement Act or the Railroad Unemployment Insurance Act, in the event this system of records maintained by the Railroad Retirement Board to carry out its functions indicates a violation or potential violation of law, whether civil, criminal or regulatory in nature, and whether arising by general statute or particular program statute, or by regulation, rule or order issued thereto, the relevant records in the system of records may be referred, as a routine use, to the appropriate agency, whether Federal, State, local or foreign, charged with the responsibility of investigating or prosecuting such violation or charged with enforcing or implementing the statute, rule, regulation or order issued pursuant thereto, provided that disclosure would be to an agency engaged in functions related to the Railroad Retirement Act or the Railroad Unemployment Insurance Act or provided that disclosure would be clearly in furtherance of the interest of the subject individual.

[FR Doc. 04-9498 Filed 4-26-04; 8:45 am]

BILLING CODE 7905-01-P